DEPARTMENT OF THE INTERIOR

Bureau of Land Management

[WO-310-06-1310-GEOT]

Implementation of the Geothermal Sections of the Energy Policy Act of 2005; Public Meeting

AGENCY: Bureau of Land Management, Interior.

ACTION: Notice of Public Meeting.

SUMMARY: A public meeting is being held by the Bureau of Land Management and the U.S. Forest Service to solicit suggestions from the public and industry on how to best implement the geothermal provisions of the Energy Policy Act of 2005.

DATES: The meeting date is scheduled as follows: November 17, 2005; 1-4 p.m., local time.

ADDRESSES: The meeting will be held at the following location: Reno Hilton Hotel, 2500 East 2nd Street, Reno, Nevada 89595.

FOR FURTHER INFORMATION CONTACT: John Bebout, National Geothermal Program Lead for the BLM at (202) 557-3375 or Bob Fujimoto, Geothermal Lead for the U.S. Forest Service at (503) 808-2430.

SUPPLEMENTARY INFORMATION: The meeting will begin with an overview of the geothermal provisions of the Energy Policy Act. Participants who request to speak will be given a set amount of time to provide suggestions that address implementation as well as major areas of interest/concern with the geothermal sections of the Act.

Dated: October 26, 2005.
Thomas P. Lonnie,
Assistant Director, Minerals, Realty and Resource Protection.

[FR Doc. 05-21676 Filed 10-31-05; 8:45 am]

BILLING CODE 4310-84-P